DEPARTMENT OF THE INTERIOR

Bureau of Land Management

[WO-310-1310-PB-01-241A]

Extension of Approved Information Collection, OMB Approval Number 1004-0034

AGENCY: Bureau of Land Management, Interior.

ACTION: Notice and request for comments.

SUMMARY: In accordance with the Paperwork Reduction Act of 1995, the Bureau of Land Management (BLM) announces its intention to request extension of an existing approval to collect certain information from those persons who wish to transfer interest in oil and gas or geothermal leases by assignment of record title or transfer operating rights (sublease) in oil and gas or geothermal leases under the terms of the mineral leasing laws. The implementing regulations are found at (43 CFR 3106, 3135, and 3216).

DATES: You must submit your comments to BLM at the appropriate address below on or before February 20, 2001. BLM will not necessarily consider any comments received after the above date.

ADDRESSES: Comments may be mailed to: Regulatory Affairs Group (630), Bureau of Land Management, 1849 C Street NW, Room 401LS, Washington, DC 20240.

Comments may be sent via Internet to: WOComments@blm.gov. Please include “ATTN: 1004-0034” and your name and return address in your Internet message.

Comments may be hand-delivered to the Bureau of Land Management, Administrative Record, Room 401, 1620 L Street, NW., Washington, DC.

Comments will be available for public review at the L Street address during regular business hours (7:45 a.m. to 4:15), Monday through Friday.

FOR FURTHER INFORMATION CONTACT: You may contact Barbara Gamble on (202) 452-0338 (Commercial or FTS). Persons who use a telecommunications device for the deaf (TDD) may call the Federal Information Relay Service at 1-800-877-8330, 24 hours a day, seven days a week, to contact Ms. Gamble.

SUPPLEMENTARY INFORMATION: 5 CFR 1320.12(a) requires BLM to provide 60-day notice in the Federal Register concerning a collection of information contained in regulations in 43 CFR 3106, 3135, and 3216 to solicit comments on (a) whether the proposed collection of information is necessary for the proper performance of the functions of the agency, including whether the information will have practical utility; (b) the accuracy of the agency's estimate of the burden of the proposed collection, including the validity of the methodology and assumptions used; (c) ways to enhance the quality, utility, and clarity of the information to be collected; and (d) ways to minimize the burden of the collection of information on those who are to respond, including through the use of appropriate automated, electronic, mechanical, or other technological collection techniques or other forms of information technology. BLM will receive and analyze any comments sent in response to this notice and include them with its request for approval from the Office of Management and Budget under 44 U.S.C. U.S.C. 3510 et seq.

The Mineral Leasing Act of 1920 (30 U.S.C. 181 et seq.) and the Geothermal Steam Act of 1970 (30 U.S.C. 1001-1025) authorize the Secretary of the Interior to issue leases for development of Federal oil and gas and geothermal resources. The Act of August 7, 1947 (Mineral Leasing Act of Acquired Lands) authorizes the Secretary to lease lands acquired by the United States (30 U.S.C. 341-359). The Department of the Interior Appropriations Act of 1981 (42 U.S.C. 6508) provides for the competitive leasing of lands for oil and gas in the National Petroleum Reserve-Alaska (NPRA0. The Attorney General's Opinion of Apil 2, 1941 (40 Opinion of Attorney General 41) provides the basis under which the Secretary issues certain leases for lands drained of mineral resources. The Federal Property and Administrative Services Act of 1949 (40 U.S.C. 471 et seq.) provides the authority for leasing lands acquired from the General Services Administration.

The regulations at 43 CFR 3106, 3135, and 3216 outline the procedures for assigned record title interest and transferring operating rights in a lease to explore for, develop, and produce oil and gas resources and geothermal resources.

The assignor/transferor provides the needed information to comply with the regulations in order to process the assignments of record title interest or transfer of operating rights (sublease) in a lease for oil and gas or geothermal resources. The assignor/transfor submits the required information to BLM for approval in accordance with 30 U.S.C. 187a and the regulations at 43 CFR 3106, 3135, and 3216.

BLM uses the information submitted by the assignor/tranferor to identify the interest ownership that is assigned or transferred and the qualifications of the assignee/transferee. BLM determines if the assignee/transferee is qualified to obtain the interest sought and ensures the assignee/transferee does not exceed statutory acreage limitations.

Based on BLM's experience administering the activities described above, we estimate the public reporting burden for the information collected to average 30 minutes per response. The respondents include individuals, small businesses, and large corporations. The frequency of response is annual. The estimated number of response per year is 60,000. The estimated total annual burden is 30,000 hours. BLM specifically requests your comments on its estimate of the amount of time that it takes to prepare a response.

BLM will summarize all responses to this notice and include them in the request for Office of Management and Budget approval. All comments will also become a matter of public record.

Dated: December 18, 2000.
Michael Schwartz,
BLM Information Collection Clearance Officer.

[FR Doc. 00-32656 Filed 12-21-00; 8:45 am]

BILLING CODE 4310-84-M